DEPARTMENT OF TRANSPORTATION

Federal Aviation Administration

14 CFR Part 39

[Docket No. FAA-2006-26071; Directorate Identifier 2006-CE-51-AD; Amendment 39-14965; AD 2007-05-04]

RIN 2120-AA64

Airworthiness Directives; Mooney Airplane Company, Inc., (Mooney) Models M20M and M20R Airplanes

AGENCY: Federal Aviation Administration (FAA), DOT.

ACTION: Final rule.

SUMMARY: The FAA adopts a new airworthiness directive (AD) for certain Mooney Airplane Company, Inc., Models M20M and M20R airplanes. This AD requires you to remove the upper left and upper right engine mount attaching hardware, cut out and remove the upholstery and insulation between the fuselage tubular frame and the firewall, and replace the upper left and upper right engine mount attaching hardware with the new parts kit. This AD results from failure of the engine mount attaching hardware to maintain torque as a result of firewall insulation and upholstery being compressed between the fuselage tubular frame and the firewall at the upper left and upper right engine mount attach points. We are issuing this AD to prevent the upper right and upper left engine mounting hardware from losing torque, which could result in a reduction in engine mount load carrying capability and could lead to engine mount failure.

DATES: This AD becomes effective on April 9, 2007.

As of April 9, 2007, the Director of the Federal Register approved the incorporation by reference of certain publications listed in the regulation.

ADDRESSES: To get the service information identified in this AD, contact Mooney Airplane Company, Inc., 165 Al Mooney Road North, Kerrville, Texas 78028; telephone: (830) 896-6000, or go to: http://www.mooney.com/images/pdfs/sb-pdf/m20-292a.pdf.

To view the AD docket, go to the Docket Management Facility; U.S. Department of Transportation, 400 Seventh Street, SW., Nassif Building, Room PL-401, Washington, DC 20590-0001 or on the Internet at http://dms.dot.gov. The docket number is FAA-2006-26071; Directorate Identifier 2006-CE-51-AD.

FOR FURTHER INFORMATION CONTACT: Andrew McAnaul, Aerospace Engineer, ASW-150 (c/o MIDO-43), 10100 Reunion Place, Suite 650, San Antonio, Texas 78216; telephone: (210) 308-3365; fax: (210) 308-3370.

SUPPLEMENTARY INFORMATION:

Discussion

On November 7, 2006, we issued a proposal to amend part 39 of the Federal Aviation Regulations (14 CFR part 39) to include an AD that would apply to certain Mooney Airplane Company, Inc. Models M20M and M20R airplanes. This proposal was published in the Federal Register as a notice of proposed rulemaking (NPRM) on November 7, 2006 (71 FR 65062). The NPRM proposed to retorque the upper left and upper right engine mounting hardware as an interim action. The NPRM also proposed to remove the upper left and upper right engine mount attaching hardware, cut out and remove the upholstery and insulation between the fuselage tubular frame and the firewall, and replace the upper left and upper right engine mount attaching hardware with the new parts kit.

Comments

We provided the public the opportunity to participate in developing this AD. The following presents the comments received on the proposal and FAA's response to each comment:

Comment Issue: Jack Buster of the Modification and Replacement Parts Association (MARPA) suggests that paragraph (g) of the proposed action be amended to include the Internet Uniform Resource Locator (URL) address for the relevant service information.

We agree with the commenter's (Jack Buster, MARPA) recommendation. We added the manufacturer's Internet URL address in the information on how to obtain the relevant service information.

Conclusion

Since the NPRM was published, the manufacturer has revised the applicable service bulletin to clarify the fastener torque requirement. The change does not change the intent of the required action and does not create any additional burden on the owners/operators. The AD will reference the appropriate service information: Mooney Airplane Company, Inc. Service Bulletin M20-292A, dated December 22, 2006, but will give credit to anyone who has already done the action per the original service bulletin.

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 198 airplanes in the U.S. registry.

We estimate the following costs to accomplish the required modifications:

Labor cost | Parts cost | Total cost per airplane | Total cost on U.S. operators
Retorquing of the upper left and upper right engine mounting hardware: .5 work-hours × $80 per hour = $40 | Not Applicable | $40 | $7,920
Removing insulation and upholstery material at the engine mount upper right and upper left attaching points, and installing engine mount attaching hardware with the new parts kit: 2 work-hours X $80 per hour = $160 | $20 | 180 | 35,640

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-26071; Directorate Identifier 2006-CE-51-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2007-05-04 Mooney Airplane Company, Inc., (Mooney) Models M20M and M20R Airplanes: Amendment 39-14965; Docket No. FAA-2006-26071; Directorate Identifier 2006-CE-51-AD.

Effective Date

(a) This AD becomes effective on April 9, 2007.

Affected ADs

(b) None.

Applicability

(c) This AD applies to Mooney Airplane Company, Inc., (Mooney) Model M20M airplanes, serial numbers 27-0317 through 27-0355 and Model M20R airplanes, serial numbers 29-0290 through 29-0448, that are certificated in any category.

Unsafe Condition

(d) This AD is the result of failure of the engine mount attaching hardware to maintain torque as a result of firewall insulation and upholstery being compressed between the fuselage tubular frame and the firewall at the upper left and upper right engine mount attach points. The actions specified in this AD are intended to prevent the upper right and upper left engine mounting hardware from losing torque. This failure could lead to a reduction in engine mount load carrying capability and could result in engine mount failure.

Compliance

(e) To address this problem, you must do the following, unless already done:

Actions | Compliance | Procedures
(1) Locate and retorque the upper left and upper right engine mount attaching hardware | Within the next 25 hours time-in-service (TIS) after April 9, 2007 (the effective date of this AD) | Follow Mooney Airplane Company, Inc. Service Bulletin M20-292A, dated December 22, 2006.
(2) Replace the old engine mount attaching hardware by doing the following: (i) Remove and discard the upper left and upper right engine mount attaching hardware; (ii) Cut out and remove the upholstery and insulation material to allow full metal-to-metal contact of the fuselage tubular frame to the firewall; and (iii) Install the new upper left and upper right engine mount attaching hardware part kits | Within the next 100 hours time-in-service (TIS) after April 9, 2007 (the effective date of this AD) | Follow Mooney Airplane Company, Inc. Service Bulletin M20-292A, dated December 22, 2006.
(3) If you do the actions of paragraph (e)(2) of this AD before the compliance time specified for the action in paragraph (e)(1) of this AD, it terminates the requirement for the action in paragraph (e)(1) of this AD | As of April 9, 2007 (the effective date of this AD) | Follow Mooney Airplane Company, Inc. Service Bulletin M20-292A, dated December 22, 2006.

(f) Compliance will be acceptable if the above actions are accomplished by following the procedures described in Mooney Airplane Company, Inc. Service Bulletin M20-292, dated September 22, 2006. You may take “unless already done” credit, and no further action per this AD is necessary.

Alternative Methods of Compliance (AMOCs)

(g) The Manager, Fort Worth Airplane Certification Office, FAA, ATTN: Andrew McAnaul, Aerospace Engineer, ASW-150 (c/o MIDO-43), 10100 Reunion Place, Suite 650, San Antonio, Texas 78216; telephone: (210) 308-3365; fax: (210) 308-3370, has the authority to approve AMOCs for this AD, if requested using the procedures found in 14 CFR 39.19.

Related Information

(h) None.

Material Incorporated by Reference

(i) You must use Mooney Airplane Company, Inc. Service Bulletin M20-292A, dated December 22, 2006, to do the actions required by this AD, unless the AD specifies otherwise.

(1) The Director of the Federal Register approved the incorporation by reference of this service information under 5 U.S.C. 552(a) and 1 CFR part 51.

(2) For service information identified in this AD, contact the Mooney Airplane Company, Inc., 165 Al Mooney Road North, Kerrville, TX 78028, telephone: 830-896-6000, or go to: http://www.mooney.com/images/pdfs/sb-pdf/m20-292a.pdf.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on February 21, 2007.
Kim Smith,
Manager, Small Airplane Directorate, Aircraft Certification Service.

[FR Doc. E7-3575 Filed 3-2-07; 8:45 am]

BILLING CODE 4910-13-P